ENVIRONMENTAL PROTECTION AGENCY

[EPA-HQ-OPP-2022-0223; FRL-11987-01-OCSPP]

Chlorpyrifos; Amendment to Existing Stocks Provisions in Winfield and Liberty Product Cancellation Orders

AGENCY: Environmental Protection Agency (EPA).

ACTION: Notice.

SUMMARY: On August 31, 2022, EPA issued a final order cancelling several products, including those voluntarily requested by Liberty Crop Protection, LLC (Liberty) and accepted by the Agency, pursuant to the Federal Insecticide, Fungicide, and Rodenticide Act (FIFRA). On May 4, 2023, EPA issued a final cancellation order including three products voluntarily requested by Winfield Solutions, LLC (Winfield) and accepted by the Agency. The Agency is issuing this notice to amend the existing stocks provisions in the August 31, 2022 and May 4, 2023 orders, for the products listed in this document.

ADDRESSES: The docket for this action, identified under docket identification (ID) number EPA-HQ-OPP-2022-0223, is available online at https://www.regulations.gov. Additional instructions on visiting the docket, along with more information about dockets generally, is available at https://www.epa.gov/dockets.

FOR FURTHER INFORMATION CONTACT: Patricia Biggio, Pesticide Re-Evaluation Division (7508M), Office of Pesticide Programs, Environmental Protection Agency, 1200 Pennsylvania Ave., NW, Washington, DC 20460-0001; telephone number: (202) 566-0700; email address: OPPChlorpyrifosInquiries@epa.gov.

SUPPLEMENTARY INFORMATION:

I. General Information

Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

II. What action is the Agency taking?

In the August 31, 2022 Cancellation Order for Certain Chlorpyrifos Registrations (87 FR 53471) (FRL-10138-01-OCSPP), EPA granted Liberty's request to cancel its three chlorpyrifos products. In the May 4, 2023 Cancellation Order for Certain Chlorpyrifos Registrations and Uses (88 FR 28541) (FRL-10924-01-OCSPP). EPA granted Winfield's request to cancel three chlorpyrifos products. Both of these orders noted that all chlorpyrifos tolerances had been revoked, and thus all use on food, sale, and distribution of existing stocks for the products identified in that order were inconsistent with the purposes of FIFRA, with some exceptions. The May 4, 2023 order allowed for distribution of existing stocks consistent with return agreements approved by EPA. Both orders permitted existing stocks to be sold and distributed for export and for proper disposal.

Subsequent to the issuance of the May 4, 2023 cancellation order, the U.S. Court of Appeals for the Eighth Circuit vacated EPA's rule revoking all tolerances. See Red River Valley Sugarbeet Growers Associations, et. al vs Regan, 85 F.4th 881 (8th Cir. 2023). On February 5, 2024, EPA issued a Federal Register notice to amend the Code of Federal Regulations (CFR) to reflect the court's reinstatement of those tolerances (89 FR 7625) (FRL-5993-06-OCSPP). At this time, all chlorpyrifos tolerances in effect prior to the 2021 tolerance rule have been reinstated and are currently in effect. See 40 CFR 180.342. With the tolerances in place, both Winfield and Liberty requested amendments to the terms of the cancellation orders governing disposition of their existing stocks to allow for sale, distribution, and use.

Because the reinstatement of the chlorpyrifos tolerances means that chlorpyrifos products can be used in accordance with their labeling without concern for adulterated food, EPA is amending the August 31, 2022 cancellation order to update the existing stocks provisions as they apply to the following Liberty products:

• Liberty Chlorpyrifos Bifenthrin (EPA Reg. No. 89168-20).

• Liberty Chlorpyrifos 4E (EPA Reg. No. 89168-24).

The registrant for these listed products is Liberty Crop Protection, LLC, and its address is 1880 Fall River Drive, Suite #100, Loveland, CO 80538.

EPA is also amending the May 4, 2023 cancellation order to update the existing stocks provisions as they relate to the following Winfield products:

• Tundra Supreme (EPA Reg. No. 1381-243).

• CPF 4E (EPA Reg. No. 83222-20).

• CPF 15G (EPA Reg. No. 83222-34).

The registrant for all three of the listed products is Winfield Solutions, LLC, and its address is 1080 County Rd., F West, MS5705, P.O. Box 64589, St. Paul, MN 55164.

III. Provisions for Disposition of Existing Stocks

Section 6(f)(1) of FIFRA (7 U.S.C. 136d(f)(1)) provides that a registrant of a pesticide product may at any time request that any of its pesticide registrations be cancelled or amended to terminate one or more registered uses. Since the tolerances for chlorpyrifos residues on food commodities have been reinstated by the Eighth Circuit, food bearing chlorpyrifos residues could be sold in interstate commerce. EPA has noted however, that it intends to issue a new rulemaking revoking several chlorpyrifos tolerances in the near future. In the meantime, the following amendments to the existing stocks provisions for Winfield and Liberty products are consistent with the path forward for disposition of existing stocks for other existing stocks amendment requests and voluntary cancellations for chlorpyrifos requested by registrants.

Existing stocks for the products identified in this order are those stocks of registered pesticide products that are currently in the United States and that were packaged, labeled, and released for shipment prior to August 31, 2022, for the Liberty products and May 4, 2023, for the Winfield products.

At this time, EPA is amending the existing stocks provisions in the August 31, 2022 cancellation order as they apply to the Liberty chlorpyrifos products mentioned in this notice. EPA has determined that the following existing stocks provisions are not inconsistent with the purposes of FIFRA, given the limited amount of existing stocks and the limited time allowed for use of the existing stocks outlined below:

• Sale and distribution of existing stocks of Liberty Chlorpyrifos Bifenthrin (EPA Reg. No. 89168-20) and Liberty Chlorpyrifos 4E (EPA Reg. Nos. 89168-24) is permitted until April 30, 2025.

• Use of existing stocks of Liberty Chlorpyrifos Bifenthrin (EPA Reg. No. 89168-20) and Liberty Chlorpyrifos 4E (EPA Reg. Nos. 89168-24) must be consistent with the product labeling. Such use is permitted until June 30, 2025. Use of existing stocks Liberty Chlorpyrifos Bifenthrin (EPA Reg. No. 89168-20) and Liberty Chlorpyrifos 4E (EPA Reg. Nos. 89168-24) for non-food purposes is permitted until existing stocks are exhausted, as long as such use is in accordance with the labeling.

At this time, EPA is amending the existing stocks provisions in the May 4, 2023 cancellation order as they apply to the Winfield products identified in this notice. EPA has determined that the following existing stocks provisions are not inconsistent with the purposes of FIFRA given the limited amount of existing stocks and the limited time allowed for use of the existing stocks outlined below:

• Sale and distribution of existing stocks of Tundra Supreme (EPA Reg. No. 1381-243), CPF 4E (EPA Reg. No. 83222-20), and CPF 15G (EPA Reg. No. 83222-34) is permitted until April 30, 2025.

• Use of existing stocks of Tundra Supreme (EPA Reg. No. 1381-243), CPF 4E (EPA Reg. No. 83222-20), and CPF 15G (EPA Reg. No. 83222-34) must be consistent with the product labeling. Such use is permitted until June 30, 2025. Use of existing stocks Tundra Supreme (EPA Reg. No. 1381-243), CPF 4E (EPA Reg. No. 83222-20), and CPF 15G (EPA Reg. No. 83222-34) for non-food purposes is permitted until existing stocks are exhausted, as long as such use is in accordance with the labeling.

After these dates, all sale, distribution, and use of existing stocks is prohibited, except for sale and distribution for export consistent with FIFRA section 17 (7 U.S.C. 136o) and for proper disposal.

Dated: June 11, 2024.
Anne Overstreet,
Director, Pesticide Re-Evaluation Division, Office of Pesticide Programs.

[FR Doc. 2024-13349 Filed 6-17-24; 8:45 am]

BILLING CODE 6560-50-P